SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1, 2012, through December 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(e) for the time period specified above:

Approvals by Rule Issued Under 18 CFR § 806.22(e)

1. SWEPI LP, Pad ID: Brumwell 657, ABR-201212001, Richmond Township, Tioga County, Pa.; Consumptive Use of Up to 4.000 mgd; Approval Date: December 4, 2012.

2. SWEPI LP, Pad ID: Kuhl 532, ABR-201212002, Richmond Township, Tioga County, Pa.; Consumptive Use of Up to 4.000 mgd; Approval Date: December 4, 2012.

3. Southwestern Energy Production Company, Pad ID: RACINE PAD, ABR-201212003, New Milford Township, Susquehanna County, Pa.; Consumptive Use of Up to 4.999 mgd; Approval Date: December 7, 2012.

4. Southwestern Energy Production Company, Pad ID: PLATUS PAD, ABR-201212004, New Milford Township, Susquehanna County, Pa.; Consumptive Use of Up to 4.999 mgd; Approval Date: December 7, 2012.

5. Southwestern Energy Production Company, Pad ID: SWEENEY PAD, ABR-201212005, New Milford Township, Susquehanna County, Pa.; Consumptive Use of Up to 4.999 mgd; Approval Date: December 7, 2012.

6. Cabot Oil & Gas Corporation, Pad ID: TeddickM P3, ABR-201212006, Brooklyn Township, Susquehanna County, Pa.; Consumptive Use of Up to 3.575 mgd; Approval Date: December 7, 2012.

7. EXCO Resources (PA), LLC, Pad ID: Dale Bower Pad 2, ABR-201212007, Penn Township, Lycoming County, Pa.; Consumptive Use of Up to 8.000 mgd; Approval Date: December 11, 2012.

8. Cabot Oil & Gas Corporation, Pad ID: ZickW P1, ABR-201212008, Lenox Township, Susquehanna County, Pa.; Consumptive Use of Up to 3.575 mgd; Approval Date: December 12, 2012.

9. Southwestern Energy Production Company, Pad ID: CONKLIN EAST, ABR-201212009, New Milford Township, Susquehanna County, Pa.; Consumptive Use of Up to 4.999 mgd; Approval Date: December 14, 2012.

10. Southwestern Energy Production Company, Pad ID: TINGLEY PAD, ABR-201212010, New Milford Township, Susquehanna County, Pa.; Consumptive Use of Up to 4.999 mgd; Approval Date: December 14, 2012.

11. Southwestern Energy Production Company, Pad ID: BOMAN PAD, ABR-201212011, Jackson Township, Susquehanna County, Pa.; Consumptive Use of Up to 4.999 mgd; Approval Date: December 14, 2012.

12. Southwestern Energy Production Company, Pad ID: Swisher (Pad R), ABR-201212012, Stevens Township, Bradford County, Pa.; Consumptive Use of Up to 4.999 mgd; Approval Date: December 31, 2012.

13. SWEPI LP, Pad ID: Tri-Co 596, ABR-201212013, Sullivan Township, Tioga County, Pa.; Consumptive Use of Up to 4.000 mgd; Approval Date: December 31, 2012.

14. Chief Oil & Gas LLC, Pad ID: Bishop Drilling Pad, ABR-201212014, Auburn Township, Susquehanna County, Pa.; Consumptive Use of Up to 2.000 mgd; Approval Date: December 31, 2012.

15. Chief Oil & Gas LLC, Pad ID: Harvey Drilling Pad, ABR-201212015, Lemon Township, Wyoming County, Pa.; Consumptive Use of Up to 2.000 mgd; Approval Date: December 31, 2012.

Authority: Pub. L. 91-575, 84 Stat. 1509 et seq., 18 CFR parts 806, 807, and 808.

Dated: February 8, 2013.
Stephanie L. Richardson,
Secretary to the Commission.

[FR Doc. 2013-03832 Filed 2-19-13; 8:45 am]

BILLING CODE 7040-01-P